DEPARTMENT OF THE INTERIOR

National Park Service

[NPS-WASO-NAGPRA-NPS0034452; PPWOCRADN0-PCU00RP14.R50000]

Notice of Intent To Repatriate Cultural Items: Field Museum of Natural History, Chicago, IL

AGENCY: National Park Service, Interior.

ACTION: Notice.

SUMMARY: The Field Museum of Natural History, in consultation with the appropriate Indian Tribes or Native Hawaiian organizations, has determined that the cultural items listed in this notice meet the definition of sacred objects. Lineal descendants or representatives of any Indian Tribe or Native Hawaiian organization not identified in this notice that wish to claim these cultural items should submit a written request to the Field Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum of Natural History at the address in this notice by October 6, 2022.

FOR FURTHER INFORMATION CONTACT: Helen Robbins, Repatriation Director, Field Museum of Natural History, 1400 South Lake Shore Drive, Chicago, IL 60605-2496, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1901, nine cultural items were removed from Table Mountain in Fresno County, CA. The items were collected by Dr. John Hudson on behalf of the Field Museum during a two-year expedition among the Native populations of California and accessioned by the Museum in 1901. The nine sacred objects are one medicine pot, one batch of tobacco emetic, two oak mortars, one batch of limestone emetic, one bunch of chamomile leaves, one basket, one wild cucumber seed necklace, and one wooden pipe.

The academic literature, Field Museum records, and consultation evidence support the finding that the requested items are Yokuts in origin and that there is a clear link between the Table Mountain Rancheria and the Yokuts people who lived at Table Mountain at the time of collection. Consultation evidence and academic literature indicate the importance of these items in traditional ceremonial practices.

Determinations Made by the Field Museum of Natural History

Officials of the Field Museum of Natural History have determined that:

• Pursuant to 25 U.S.C. 3001(3)(C), the nine cultural items described above are specific ceremonial objects needed by traditional Native American religious leaders for the practice of traditional Native American religions by their present-day adherents.

• Pursuant to 25 U.S.C. 3001(2), there is a relationship of shared group identity that can be reasonably traced between the nine sacred objects described above and the Table Mountain Rancheria (previously listed as Table Mountain Rancheria of California).

Additional Requestors and Disposition

Lineal descendants or representatives of any Indian Tribe or Native Hawaiian organization not identified in this notice that wish to claim these cultural items should submit a written request with information in support of the claim to Helen Robbins, Repatriation Director, Field Museum of Natural History, 1400 South Lake Shore Drive, Chicago, IL 60605-2496, telephone (312) 665-7317, email hrobbins@fieldmuseum.org, by October 6, 2022. After that date, if no additional claimants have come forward, transfer of control of the sacred objects to the Table Mountain Rancheria (previously listed as Table Mountain Rancheria of California) may proceed.

The Field Museum of Natural History is responsible for notifying the Table Mountain Rancheria (previously listed as Table Mountain Rancheria of California) that this notice has been published.

Dated: August 29, 2022.
Melanie O'Brien,
Manager, National NAGPRA Program.

[FR Doc. 2022-19171 Filed 9-2-22; 8:45 am]

BILLING CODE 4312-52-P